FEDERAL ELECTION COMMISSION

[Notice 2012-09]

Filing Dates for the Illinois Special Election in the 2nd Congressional District

AGENCY: Federal Election Commission.

ACTION: Notice of filing dates for special election.

SUMMARY: Illinois has scheduled elections on February 26, 2013, and April 9, 2013, to fill the U.S. House seat in the 2nd Congressional District vacated by Representative Jesse Jackson, Jr. Committees required to file reports in connection with the Special Primary Election on February 26, 2013, shall file a 12-day Pre-Primary Report. Committees required to file reports in connection with both the Special Primary and Special General Election on April 9, 2013, shall file a 12-day Pre-Primary Report, a 12-day Pre-General Report, and a 30-day Post-General Report.

FOR FURTHER INFORMATION CONTACT: Ms. Elizabeth S. Kurland, Information Division, 999 E Street NW., Washington, DC 20463; Telephone: (202) 694-1100; Toll Free (800) 424-9530.

SUPPLEMENTARY INFORMATION:

Principal Campaign Committees

All principal campaign committees of candidates who participate in the Illinois Special Primary and Special General Elections shall file a 12-day Pre-Primary Report on February 14, 2013; a 12-day Pre-General Report on March 28, 2013; and a 30-day Post-General Report on May 9, 2013. (See chart below for the closing date for each report).

All principal campaign committees of candidates participating only in the Special Primary Election shall file a 12-day Pre-Primary Report on February 14, 2013. (See chart below for the closing date for each report).

Unauthorized Committees (PACs and Party Committees)

Political committees filing on a semi-annual basis in 2013 are subject to special election reporting if they make previously undisclosed contributions or expenditures in connection with the Illinois Special Primary or Special General Election by the close of books for the applicable report(s). (See chart below for the closing date for each report).

Committees filing monthly that make contributions or expenditures in connection with the Illinois Special Primary or General Elections will continue to file according to the monthly reporting schedule.

Additional disclosure information in connection with the Illinois Special Election may be found on the FEC Web site at http://www.fec.gov/info/report_dates.shtml.

Disclosure of Lobbyist Bundling Activity

Principal campaign committees, party committees and Leadership PACs that are otherwise required to file reports in connection with the special elections must simultaneously file FEC Form 3L if they receive two or more bundled contributions from lobbyists/registrants or lobbyist/registrant PACs that aggregate in excess of the lobbyist bundling disclosure threshold during the special election reporting periods (see charts below for closing date of each period). 11 CFR 104.22(a)(5)(v).

The lobbyist bundling disclosure threshold for calendar year 2012 was $16,700. This threshold amount may change in 2013 based upon the annual cost of living adjustment (COLA). Once the adjusted threshold amount becomes available, the Commission will publish it in the Federal Register and post it on its Web site.

Calendar of Reporting Dates for Illinois Special Election
Report | Close of books¹ | Reg./Cert. & overnight mailing deadline | Filing deadline
Quarterly Filing Committees Involved in Only the Special Primary (02/26/13) Must File:
Pre-Primary | 02/06/13 | 02/11/13 | 02/14/13
April Quarterly | 03/31/13 | 04/15/13 | 04/15/13
Semi-Annual Filing Committees Involved in Only the Special Primary (02/26/13) Must File:
Pre-Primary | 02/06/13 | 02/11/13 | 02/14/13
Mid-Year | 06/30/13 | 07/31/13 | 07/31/13
Quarterly Filing Committees Involved in Both the Special Primary (02/26/13) and Special General (04/09/13) Must File:
Pre-Primary | 02/06/13 | 02/11/13 | 02/14/13
Pre-General | 03/20/13 | 03/25/13 | 03/28/13
April Quarterly | 03/31/13 | 04/15/13 | 04/15/13
Post-General | 04/29/13 | 05/09/13 | 05/09/13
July Quarterly | 06/30/13 | 07/15/13 | 07/15/13
Semi-Annual Filing Committees Involved in Both the Special Primary (02/26/13) and Special General (04/09/13) Must File:
Pre-Primary | 02/06/13 | 02/11/13 | 02/14/13
Pre-General | 03/20/13 | 03/25/13 | 03/28/13
Post-General | 04/29/13 | 05/09/13 | 05/09/13
Mid-Year | 06/30/13 | 07/31/13 | 07/31/13
Quarterly Filing Committees Involved in Only the Special General (04/09/13) Must File:
Pre-General | 03/20/13 | 03/25/13 | 03/28/13
April Quarterly | 03/31/13 | 04/15/13 | 04/15/13
Post-General | 04/29/13 | 05/09/13 | 05/09/13
July Quarterly | 06/30/13 | 07/15/13 | 07/15/13
Semi-Annual Filing Committees Involved in Only the Special General (04/09/13) Must File:
Pre-General | 03/20/13 | 03/25/13 | 03/28/13
Post-General | 04/29/13 | 05/09/13 | 05/09/13
Mid-Year | 06/30/13 | 07/31/13 | 07/31/13
¹ These dates indicate the end of the reporting period. A reporting period always begins the day after the closing date of the last report filed. If the committee is new and has not previously filed a report, the first report must cover all activity that occurred before the committee registered as a political committee with the Commission up through the close of books for the first report due.

Dated: December 10, 2012.
On behalf of the Commission.
Caroline C. Hunter,
Chair, Federal Election Commission.

[FR Doc. 2012-30505 Filed 12-18-12; 8:45 am]

BILLING CODE 6715-01-P